DEPARTMENT OF HEALTH AND HUMAN SERVICES

Health Resources and Services Administration

Health Center Program

AGENCY: Health Resources and Services Administration, HHS.

ACTION: Notice of Noncompetitive Replacement Awards to Sunset Park Health Council, Inc.

SUMMARY: The Health Resources and Services Administration (HRSA) will transfer the remaining American Recovery and Reinvestment Act (ARRA) Increased Demand for Services (IDS) and a portion of the Capital Improvement Project (CIP) from Saint Vincent's Catholic Medical Centers (SVCMC) of New York, current grantee of record, to Sunset Park Health Council, Inc. in order to ensure the continuity of services to low-income, underserved homeless patients in New York City.

SUPPLEMENTARY INFORMATION: Former Grantee of Record: Saint Vincent's Catholic Medical Centers of New York.

Original Period of Grant Support: ARRA IDS Funds—March 27, 2009 to March 26, 2011; ARRA CIP Funds—June 29, 2009 to June 28, 2011.

Replacement Awardee: Sunset Park Health Council, Inc.

Amount of Replacement Award: $295,389.

Period of Replacement Award: The period of support for this award is November 1, 2010 to June 28, 2011.

Authority: Section 330(h) of the Public Health Service Act, 42 U.S.C. 245b.

CDFA Number: 93.703.

Justification for the Exception to Competition: The former grantee, Saint Vincent's Catholic Medical Centers of New York, has relinquished all grants due to financial difficulties resulting in bankruptcy and closure of facilities and programs. The former grantee has requested that HRSA transfer the ARRA Increased Demand for Services funds and ARRA Capital Improvement Project funds in order to implement and carry out grant activities originally proposed under SVCMC funded ARRA grant applications.

SPHC is an experienced provider of care and has a demonstrated record of compliance with Health Center Program statutory and regulatory requirements and located in the same geographical area. The short-term transfer of the ARRA Increased Demand for Services and ARRA Capital Improvement Project funds will ensure that critical primary health care services continue and remain available to the low-income, underserved homeless patients with no interruption in services to the target population.

FOR FURTHER INFORMATION CONTACT: Marquita Cullom-Scott via e-mail at MCullom-Scott@hrsa.gov or telephone at 301-594-4300.

Dated: January 5, 2011.
Mary K. Wakefield,
Administrator.

[FR Doc. 2011-282 Filed 1-7-11; 8:45 am]

BILLING CODE 4165-15-P